INTERNATIONAL TRADE COMMISSION

[Investigation Nos. 303-TA-23, 731-TA-566-570, and 731-TA-641 (Final)(Reconsideration)(Fourth Remand)]

Ferrosilicon From Brazil, China, Kazakhstan, Russia, Ukraine, and Venezuela

AGENCY: United States International Trade Commission.

ACTION: Notice of remand proceedings.

SUMMARY: The United States International Trade Commission (Commission) hereby gives notice of the court-ordered remand of its reconsideration proceedings pertaining to countervailing duty Investigation No. 303-TA-23 (Final) concerning ferrosilicon from Venezuela, and antidumping Investigations Nos. 731-TA-566-570 and 731-TA-641 (Final) concerning ferrosilicon from Brazil, China, Kazakhstan, Russia, Ukraine, and Venezuela.

DATES: Effective Date: August 22, 2006.

FOR FURTHER INFORMATION CONTACT: George L. Deyman, Office of Investigations, telephone 202-205-3197, or Marc A. Bernstein, Office of General Counsel, telephone 202-205-3087, U.S. International Trade Commission, 500 E Street, SW., Washington, DC 20436. Hearing-impaired individuals are advised that information on this matter can be obtained by contacting the Commission's TDD terminal on 202-205-1810. General information concerning the Commission may also be obtained by accessing its Internet server (http://www.usitc.gov).

SUPPLEMENTARY INFORMATION:

Background

In August 1999 the Commission made negative determinations upon reconsideration in its antidumping and countervailing duty investigations concerning ferrosilicon from Brazil, China, Kazakhstan, Russia, Ukraine, and Venezuela. Ferrosilicon from Brazil, China, Kazakhstan, Russia, Ukraine, and Venezuela, Inv. Nos. 303-TA-23, 731-TA-566-570, 731-TA-641 (Final) (Reconsideration), USITC Pub. 3218 (Aug. 1999). The Commission's determinations were appealed to the U.S. Court of International Trade (CIT). On February 21, 2002, the CIT remanded the matter to the Commission for further proceedings. Elkem Metals Co. v. United States, 193 F. Supp.2d 1314 (Ct. Int'l Trade 2002). On remand, the Commission conducted further proceedings. In September 2002 it reached negative determinations on remand. Ferrosilicon from Brazil, China, Kazakhstan, Russia, Ukraine, and Venezuela, Inv. Nos. 303-TA-23, 731-TA-566-570, and 731-TA-631 (Final) (Reconsideration) (Remand), USITC Pub. 3531 (Sept. 2002). On June 18, 2003, the CIT issued an opinion concerning the Commission's determinations on remand which affirmed the Commission in part and remanded in part for further proceedings. Elkem Metals Co. v. United States, 276 F. Supp.2d 1296 (Ct. Int'l Trade 2003). In September 2003 the Commission reached negative determinations in the second remand proceeding. Ferrosilicon from Brazil, China, Kazakhstan, Russia, Ukraine, and Venezuela, Inv. Nos. 303-TA-23, 731-TA-566-570, and 731-TA-631 (Final) (Reconsideration) (Second Remand), USITC Pub. 3627 (Sept. 2003). On May 12, 2004, the CIT issued an opinion concerning the Commission's determinations on second remand which remanded the matter for further proceedings. Elkem Metals Co. v. United States, Slip Op. 04-49 (Ct. Int'l Trade May 12, 2004), modified in part, Slip Op. 04-152 (Ct. Int'l Trade Dec. 3, 2005). In March 2005 the Commission reached negative determinations in the third remand proceeding. Ferrosilicon from Brazil, China, Kazakhstan, Russia, Ukraine, and Venezuela, Inv. Nos. 303-TA-23, 731-TA-566-570, and 731-TA-631 (Final) (Reconsideration) (Third Remand), USITC Pub. 3765 (March 2005). On July 21, 2006, the CIT issued an opinion again remanding the matter to the Commission. Elkem Metals Co. v. United States, Slip Op. 06-108 (Ct. Int'l Trade July 21, 2006) (“Elkem VIII”).

Written Submissions

The Commission is not reopening the record in the fourth remand proceeding for submission of new factual information. In Elkem VIII, the CIT stated that if the Commission does not reopen the record on remand, it must “find that the price-fixing Conspiracy was not a significant factor in the Subsequent Period and further find that the prices in the Subsequent Period were set by market forces and complete its analysis accordingly.” Elkem VIII, Slip Op. at 22. The Commission will permit the parties to file written submissions with regard to the Commission completing its analysis upon making the findings required by the CIT in the passage quoted above.

All submissions must be filed with the Commission no later than 14 days after publication of this notice in the Federal Register, shall not contain any new factual information, and shall not exceed 20 pages of textual material, double-spaced and single-sided, on stationery measuring 8½ x 11 inches.

All written submissions must conform with the provisions of section 201.8 of the Commission's rules; any submissions that contain business proprietary information (BPI) must also conform with the requirements of sections 201.6, 207.3, and 207.7 of the Commission's rules. The Commission's rules do not authorize filing of submissions with the Secretary by facsimile or electronic means, except to the extent permitted by section 201.8 of the Commission's rules, as amended, 67 FR 68036 (Nov. 8, 2002).

In accordance with sections 201.16(c) and 207.3 of the Commission's rules, each document filed by a party to the investigations must be served on all other parties to the investigations (as identified by either the public or BPI service list), and a certificate of service must be timely filed. The Secretary will not accept a document for filing without a certificate of service.

Parties are also advised to consult the Commission's Rules of Practice and Procedure, part 201, subparts A through E (19 CFR part 201), and part 207, subpart A (19 CFR part 207) for provisions of general applicability concerning written submissions to the Commission.

Participation in the Proceedings

Only those persons who were parties to the previous reconsideration proceedings (i.e., persons listed on the Commission Secretary's service list) may participate as parties in the fourth remand proceedings.

Authority: This action is taken under the authority of title VII of the Tariff Act of 1930 as amended.

Issued: August 22, 2006.
By order of the Commission.
Marilyn R. Abbott,
Secretary to the Commission.

[FR Doc. E6-14138 Filed 8-24-06; 8:45 am]

BILLING CODE 7020-02-P